DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC, provided such request if filed in writing with the Director of DTAA not later than August 26, 2002.

Also, interested persons are invited to submit written comments regarding the subject matter of the petitions to the Director of DTAA at the address shown below not later than August 26, 2002.

Petitions filed with Governors are available for inspection at the Office of the Director, DTAA, ETA, DOL, Room C-5311, 200 Constitution Avenue, NW., Washington, DC 20210.

Signed at Washington, DC, this 7th day of August, 2002.
Edward A. Tomchick,
Director, Division of Trade Adjustment Assistance.

Appendix
Subject firm | Location | Date received at governor's office | Petition number | Articles produced
Aerus LLC (Co.) | Piney Flats, TN | 07/10/2002 | NAFTA-6,352 | vacuum cleaner power nozzle wands.
American Meter (Co.) | Erie, PA | 06/21/2002 | NAFTA-6,353 | diaphram meters.
E and A Technology (Wkrs) | El Paso, TX | 07/10/2002 | NAFTA-6,354 | computer chassis.
Donaldson Co., Inc. (Co.) | Baldwin, WI | 07/10/2002 | NAFTA-6,355 | metal fabrication.
Breed Technologies, Inc. (Co.) | Knoxville, TX | 07/10/2002 | NAFTA-6,356 | automatic seat belt components.
Tecumseh Product (Co.) | Grafton, WI | 07/09/2002 | NAFTA-6,357 | compressors.
Dana Corporation (Co.) | Columbia City, IN | 06/14/2002 | NAFTA-6,358 | hoses and tubing.
Agrium US Inc. (Co.) | Soda Springs, ID | 06/12/2002 | NAFTA-6,359 | phosphate fertilizer.
Neoplan USA Corp. (Wkrs) | Brownsville, TX | 07/09/2002 | NAFTA-6,360 | bus manufacturer.
Encana (Co.) | Butte, MT | 07/08/2002 | NAFTA-6,361 | oil and gas.
D and L Tool, Inc. (Co.) | Meadville, PA | 06/20/2002 | NAFTA-6,362 | molds.
Corning Frequency Control (Co.) | Mercersburg, PA | 06/20/2002 | NAFTA-6,363 | crystal blanks.
Computer Sciences Corp. (Co.) | Houston, TX | 07/11/2002 | NAFTA-6,364 | mailroom operations.
Oki Data Americas (Co.) | Mount Laurel, NJ | 07/15/2002 | NAFTA-6,365 | ribbon and toner cartridges.
Sitel Corp. (Wkrs) | Longview, TX | 07/15/2002 | NAFTA-6,366 | call center.
Harvard Industries (UAW) | Albion, MI | 07/08/2002 | NAFTA-6,367 | iron casting for automotive.
Penske Truck Leasing (Wkrs) | Chesterfield, MO | 07/12/2002 | NAFTA-6,368 | trucking leasing.
Holloway Sportswear (Wkrs) | Ville Platte, LA | 07/15/2002 | NAFTA-6,369 | sportswear.
Bee Paper (Wkrs) | Wayne, NU | 07/01/2002 | NAFTA-6,370 | paper.
Dura Automotive Systems (Co.) | Pikeville, TN | 07/12/2002 | NAFTA-6,371 | power windows.
Jam'ng Five (Wkrs) | Medley, FL | 07/15/2002 | NAFTA-6,372 | children wear.
Oxford Automotive (Wkrs) | Argos, IN | 07/12/2002 | NAFTA-6,373 | stamped metal auto parts.
IBM Global Services (Wkrs) | Jacksonville, FL | 07/15/2002 | NAFTA-6,374 | computer system and support.
VF Imagewear (Co.) | Mt. Pleasant, TN | 07/15/2002 | NAFTA-6,375 | uniforms (shirts and pants).
Tellabs Operations (Wkrs) | Hawthorne, NY | 07/12/2002 | NAFTA-6,376 | hardware modules.
Cummins (Co.) | Montello, WI | 07/03/2002 | NAFTA-6,377 | gas Turbins.
Willamette Industries-Weyerhaeuser (Co.) | Albany, OR | 07/12/2002 | NAFTA-6,378 | lumber.
American Technical Ceramics (Wkrs) | Jacksonville, FL | 07/16/2002 | NAFTA-6,379 | electronic capacitors.
Klaussner Furniture (Wkrs) | Asheboro, NC | 07/16/2002 | NAFTA-6,380 | cloth and leather upholstery furniture.
Mountain High Timber (Co.) | LaPine, OR | 07/17/2002 | NAFTA-6,381 | wood chips.
Tom Harmon Logging (Co.) | LaPine OR | 07/17/2002 | NAFTA-6,382 | wood chips.
New York Air Brake Corporation (Co.) | Akron, OH | 07/19/2002 | NAFTA-6,383 | train line hose.
Southern Transformer Co. (Co.) | East Point, GA | 07/20/2002 | NAFTA-6,384 | transformers.
Plantronics (Wkrs) | Garden Grove, CA | 07/10/2002 | NAFTA-6,385 | hearing aides.
Nova bus (Wkrs) | Niskayuna, NY | 07/16/2002 | NAFTA-6386 | transit buses.
Susquehanna Pfaltzgraff Co. (Wkrs) | York, PA | 07/19/2002 | NAFTA-6,387 | dinnerware.
IBM Corp. (Wkrs) | Rochester, MN | 07/19/2002 | NAFTA-6,388 | AS/400 computer systems.
Federal-Mogul Corporation (Wkrs) | Winchester, VA | 07/19/2002 | NAFTA-6,389 | friction products.
McManus Wyatt Produce (Wkrs) | Weslaco, TX | 07/22/2002 | NAFTA-6,390 | produce.
Krone, Inc. (Co.) | El Paso, TX | 07/18/2002 | NAFTA-6,391 | wire termination products.
Copeland Corp. (Wkrs) | Ava, MO | 07/16/2002 | NAFTA-6,392 | scroll sets.
Ergo Systems, Inc. (Co.) | Green Lane, PA | 07/18/2002 | NAFTA-6,393 | computer support equipment.
General Cable (IUE) | Sanger, CA | 07/10/2002 | NAFTA-6,394 | datacom wire and cable.
Switching Systems International (Wkrs) | Anaheim, CA | 07/10/2002 | NAFTA-6,395 | power supplies.
Aermotor Pumps, Inc. (Co.) | Conway, AR | 07/12/2002 | NAFTA-6,396 | sump pumps.
Johnson and Johnson Apparel (UNITE) | Bailey, NC | 07/16/2002 | NAFTA-6,397 | children's dresses.
American Uniform Co. (Co.) | Blue Ridge, GA | 07/15/2002 | NAFTA-6,398 | shirts, flat goods, and aprons.
United Plastics Group, Inc. (Wkrs) | Brooksville, FL | 07/16/2002 | NAFTA-6,399 | automotive injections.
Komatsu America Corp. (Co.) | Peoria, IL | 06/26/2002 | NAFTA-6,400 | ball studs, pins and castings.
Volant Ski (Wkrs) | Wheatridge, Co | 06/10/2002 | NAFTA-6,401 | alpine skis.
National Electrical Carbon (Wkrs) | Birmingham, AL | 07/23/2002 | NAFTA-6,402 | carbon brushes.
Coper Wiring Devices (Eagle Electric) (Wkrs) | Long Island City, NY | 07/23/2002 | NAFTA-6,403 | switches, adapters, etc.
Clark Alabma (Co.) | Pell City, AL | 07/23/2002 | NAFTA-6,404 | Industrial material handling equipment.
Saint Gobain Abrasives North America (PACE) | Niagara Falls, NY | 07/23/2002 | NAFTA-6,405 | abrasive products.
Don Alleson Athletic (Co.) | Toccoa, GA | 07/24/2002 | NAFTA-6,406 | athletic apparel, gym shorts.
Amcoe Speciality Packaging (Co.) | Newport News, VA | 07/08/2002 | NAFTA-6,407 | plastic food containers.
Emerson Electric (Co.) | Vernon, AL | 07/25/2002 | NAFTA-6,408 | electric heating/residential appliances.
Skyworks Solutions (Co.) | Havenhill, MA | 07/16/2002 | NAFTA-6,409 | semiconductor components.
Goodyear Tire and Rubber (The) (USWA) | Green, OH | 07/26/2002 | NAFTA-6,410 | air springs.
Carolina Mills (Co.) | Gastonia, NC | 07/25/2002 | NAFTA-6,411 | spur synthetic yarns.
U.S. Precision Glass (Co.) | Lewisburg, OH | 07/11/2002 | NAFTA-6,412 | glass for furniture.
Kelly Springfield (Wkrs) | Fayetteville, NC | 07/29/2002 | NAFTA-6,413 | tires.
Harris Welco—J.W. Harris (Co.) | Kings Mountain, NC | 07/29/2002 | NAFTA-6,414 | machinery.
MEL, Inc. (Co.) | Winchester, MA | 07/29/2002 | NAFTA-6,415 | dyeing of materials.
Norscan, Inc. (Co.) | Conover, NC | 07/30/2002 | NAFTA-6,416 | cable protection devices.
Gate City Printing (Wkrs) | Greensboro, NC | 07/25/2002 | NAFTA-6,417 | printed packaging.
Lapcor Plastic—Mirro/Wearever. Co. (Wkrs) | Manitowoc, WI | 07/29/2002 | NAFTA-6,418 | cookware sets.

[FR Doc. 02-20612 Filed 8-13-02; 8:45 am]

BILLING CODE 4510-30-M